DEPARTMENT OF AGRICULTURE

Submission for OMB Review; Comment Request

August 12, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_ OIRA_Submission @OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: SRS Publications Evaluation Card.

OMB Control Number: 0596-0163.

Summary of Collection: Executive Order 12862 issued September 11, 1993, directed Federal agencies to change the way they do business, to reform their management practices, to provide service to the public that matches or exceeds the best service available in the private sector, and to establish and implement customer service standards to carry out principles of the National Performance Review. In response to this Executive Order, the Forest Service (FS) Southern Research Station developed a “Publication Comment” Card for inclusion when distributing scientific research publications. FS has come to realize that some changes in their publications may be necessary to achieve their goals and wishes to elicit voluntary feedback from their readers to help determine the changes to make. FS will collect information using the comment card.

Need and Use of the Information: FS will collect information, which will ask the respondents to rate the publication that they received or read. The information will be used to improve the readability and usefulness of FS articles, papers, and books. If the information is not collected, FS will forgo any opportunity to learn valuable information from readers that would help them improve their products to better meet their needs.

Description of Respondents: Business or other for-profit; individuals or households; not-for-profit institutions; Federal Government; State, Local or Tribal Government.

Number of Respondents: 1,654,000.

Frequency of Responses: Reporting: on occasion.

Total Burden Hours: 965.

Ruth Brown,
Departmental Information Collection Clearance Officer.

[FR Doc. 04-18894 Filed 8-17-04; 8:45 am]

BILLING CODE 3410-11-P